NUCLEAR REGULATORY COMMISSION

[NRC-2009-0262]

Guidance for Fuel Cycle Facility Change Processes

AGENCY: Nuclear Regulatory Commission.

ACTION: Regulatory guide; issuance.

SUMMARY: The U.S. Nuclear Regulatory Commission (NRC or the Commission) is issuing a new regulatory guide (RG) 3.74, “Guidance for Fuel Cycle Facility Change Processes.” This regulatory guide describes the types of changes for which fuel cycle facility licensees should seek prior approval from the NRC and discusses how licensees can evaluate potential changes to determine whether NRC approval is required before implementing a change. This regulatory guide also describes the level of information that the NRC staff considers acceptable for use in documenting and reporting changes made without prior NRC approval.

ADDRESSES: You can access publicly available documents related to this regulatory guide using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-(800) 397-4209, (301) 415-4737, or by email to pdr.resource@nrc.gov. The regulatory guide is available electronically under ADAMS Accession Number ML100890016. The regulatory analysis may be found in ADAMS under Accession No. ML110960217.

• Federal Rulemaking Web Site: Public comments and supporting materials related to this regulatory guide can be found at http://www.regulations.gov by searching on Docket ID NRC-2009-0262.

Regulatory guides are not copyrighted, and Commission approval is not required to reproduce them.

FOR FURTHER INFORMATION CONTACT: R. A. Jervey, U.S. Nuclear Regulatory Commission, Washington, DC 20555-0001, telephone: (301) 251-7404 or email Richard.Jervey@nrc.gov.

SUPPLEMENTARY INFORMATION:

I. Introduction

The NRC is issuing a new guide in the NRC's “Regulatory Guide” series. This series was developed to describe and make available to the public information such as methods that are acceptable to the NRC staff for implementing specific parts of the agency's regulations, techniques that the staff uses in evaluating specific problems or postulated accidents, and data that the staff needs in its review of applications for permits and licenses.

RG 3.74, “Guidance for Fuel Cycle Facility Change Processes,” was issued with a temporary identification as Draft Regulatory Guide, DG-3037, to address several requirements of Title 10 of the Code of Federal Regulations (10 CFR) Part 70, “Domestic Licensing of Special Nuclear Material.” The guide describes how fuel cycle facility licensees can evaluate potential changes to determine whether NRC approval is required before implementing them. Operating experience from nuclear fuel cycle facilities shows that past incidents often resulted from changes implemented at the facility. In some cases, licensee management or personnel did not analyze, authorize, or understand the changes before implementing them. Subpart H to 10 CFR part 70, in part, includes requirements for tracking, evaluating, and documenting changes made to fuel cycle facilities, and to licensee safety programs. The requirements governing these changes are stated in 10 CFR 70.72, “Facility Changes and Change Process,” and pursuant to 10 CFR 70.60, apply to fuel cycle facility licensees that possess greater than a critical mass of special nuclear material and that are engaged in enriched uranium processing, fabrication of uranium fuel or fuel assemblies, uranium enrichment, enriched uranium hexafluoride conversion, plutonium processing, or fabrication of mixed-oxide fuel or fuel assemblies. Such fuel cycle facility licensees must establish a configuration management system to evaluate, implement, and track each change to the site, structures, processes, systems, equipment, components, computer programs, and activities of personnel, in accordance with 10 CFR 70.72(a). Licensees may make such changes without prior approval of the NRC as long as the changes meet the criteria in 10 CFR 70.72(c). RG 3.74 describes how fuel cycle facility licensees can evaluate potential changes to determine whether NRC approval is required before implementing them. This regulatory guide identifies an acceptable level of information to be provided by licensees when documenting and reporting changes made without prior NRC approval.

II. Further Information

DG-3037 was published in the Federal Register on July 14, 2011 (76 FR 41527). The public comment period closed September 16, 2011. Public comments on DG-3037 and the staff responses to the public comments are available under ADAMS Accession Number ML113050428.

Dated at Rockville, Maryland, this 28th day of December, 2011.
For the Nuclear Regulatory Commission.
Harriet Karagiannis,
Acting Chief, Regulatory Guide Development Branch, Division of Engineering, Office of Nuclear Regulatory Research.

[FR Doc. 2012-31 Filed 1-5-12; 8:45 am]

BILLING CODE 7590-01-P